DEPARTMENT OF THE INTERIOR

National Park Service

[N6413; NPS-WASO-NAGPRA-NPS0040807; PPWOCRADN0-PCU00RP14.R50000]

Notice of Inventory Completion Amendment: Robert S. Peabody Institute of Archaeology, Andover, MA

AGENCY: National Park Service, Interior.

ACTION: Notice; amendment.

SUMMARY: In accordance with the Native American Graves Protection and Repatriation Act (NAGPRA), the Robert S. Peabody Institute of Archaeology (RSPI) has amended a notice of inventory completion published in the Federal Register on January 26, 2024. This notice amends the Indian Tribes or Native Hawaiian organizations with cultural affiliation.

DATES: Repatriation of the human remains and associated funerary objects may occur on or after September 15, 2025.

ADDRESSES: Send written requests for repatriation of the human remains and associated funerary objects to Ryan Wheeler, Robert S. Peabody Institute of Archaeology, 180 Main Street, Andover, MA 01810, email rwheeler@andover.edu.

SUPPLEMENTARY INFORMATION: This notice is published as part of the National Park Service's administrative responsibilities under NAGPRA. The determinations in this notice are the sole responsibility of the RSPI, and additional information on the determinations in this notice, including the results of consultation, can be found in its inventory or related records. The National Park Service is not responsible for the determinations in this notice.

Amendment

This notice amends the determination of cultural affiliation published in a notice of inventory completion in the Federal Register (89 FR 5258) on January 26, 2024. Repatriation of the human remains and associated funerary objects in the original notice of inventory completion has not occurred.

Determinations

The RSPI has determined that:

• There is a connection between the human remains and associated funerary objects described in the original notice and the Alabama-Coushatta Tribe of Texas; Jena Band of Choctaw Indians; Miccosukee Tribe of Indians; Mississippi Band of Choctaw Indians; Poarch Band of Creek Indians; Seminole Tribe of Florida; The Choctaw Nation of Oklahoma; The Muscogee (Creek) Nation; The Seminole Nation of Oklahoma; and the Thlopthlocco Tribal Town.

Requests for Repatriation

Written requests for repatriation of the human remains and associated funerary objects in the original notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in the original notice to a requestor may occur on or after September 15, 2025. If competing requests for repatriation are received, the RSPI must determine the most appropriate requestor prior to repatriation. Requests for joint repatriation of the human remains and associated funerary objects are considered a single request and not competing requests. The RSPI is responsible for sending a copy of this notice to the Indian Tribes and Native Hawaiian organizations identified in this notice and any other consulting parties.

(Authority: Native American Graves Protection and Repatriation Act, 25 U.S.C. 3003, and the implementing regulations, 43 CFR 10.10.)

Dated: July 31, 2025.
Melanie O'Brien,
Manager, National NAGPRA Program.

[FR Doc. 2025-15403 Filed 8-13-25; 8:45 am]

BILLING CODE 4312-52-P